SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: September 1, 2012, through September 30, 2012.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. Southwestern Energy Production Company, Pad ID: ENDLESS MOUNTAIN RECREATION, ABR-201209001, New Milford Township, Susquehanna County, Pa.; Consumptive Use of Up to 4.999 mgd; Approval Date: September 4, 2012.

2. Talisman Energy USA Inc., Pad ID: 05 112 Abell G, ABR-201209002, Warren Township, Bradford County, Pa.; Consumptive Use of Up to 6.000 mgd; Approval Date: September 10, 2012.

3. Atlas Resources, LLC, Pad ID: Logue Pad B, ABR-201209003, Gamble Township, Lycoming County, Pa.; Consumptive Use of Up to 4.000 mgd; Approval Date: September 11, 2012.

4. WPX Energy Appalachia, LLC, Pad ID: Beckley Well Pad, ABR-201209004, Franklin Township, Susquehanna County, Pa.; Consumptive Use of Up to 4.000 mgd; Approval Date: September 11, 2012.

5. XTO Energy Incorporated, Pad ID: West Brown B, ABR-201209005, Moreland Township, Lycoming County, Pa.; Consumptive Use of Up to 4.500 mgd; Approval Date: September 14, 2012.

6. Southwestern Energy Production Company, Pad ID: WOOSMAN PAD, ABR-201209006, New Milford Township, Susquehanna County, Pa.; Consumptive Use of Up to 4.999 mgd; Approval Date: September 18, 2012.

7. Southwestern Energy Production Company, Pad ID: SWOPE PAD, ABR-201209007, Jackson Township, Susquehanna County, Pa.; Consumptive Use of Up to 4.999 mgd; Approval Date: September 18, 2012.

8. Southwestern Energy Production Company, Pad ID: MULLOY PAD, ABR-201209008, Jackson Township, Susquehanna County, Pa.; Consumptive Use of Up to 4.999 mgd; Approval Date: September 18, 2012.

9. Southwestern Energy Production Company, Pad ID: MARVIN PAD, ABR-201209009, Jackson Township, Susquehanna County, Pa.; Consumptive Use of Up to 4.999 mgd; Approval Date: September 18, 2012.

10. Southwestern Energy Production Company, Pad ID: FREITAG PAD, ABR-201209010, Jackson Township, Susquehanna County, Pa.; Consumptive Use of Up to 4.999 mgd; Approval Date: September 18, 2012.

11. Chesapeake Appalachia, LLC, Pad ID: Gene, ABR-201209011, Overton Township, Bradford County, Pa.; Consumptive Use of Up to 7.500 mgd; Approval Date: September 24, 2012.

12. Chesapeake Appalachia, LLC, Pad ID: Yencha, ABR-201209012, Monroe Township, Bradford County, Pa.; Consumptive Use of Up to 7.500 mgd; Approval Date: September 24, 2012.

13. SWEPI LP, Pad ID: Delaney 651, ABR-201209013, Sullivan Township, Tioga County, Pa.; Consumptive Use of Up to 4.000 mgd; Approval Date: September 24, 2012.

14. Chesapeake Appalachia, LLC, Pad ID: Blueberry Hill, ABR-201209014, Overton Township, Bradford County, Pa.; Consumptive Use of Up to 7.500 mgd; Approval Date: September 25, 2012.

15. Chesapeake Appalachia, LLC, Pad ID: Carr, ABR-201209015, Wilmot Township, Bradford County, Pa.; Consumptive Use of Up to 7.500 mgd; Approval Date: September 25, 2012.

16. Talisman Energy USA Inc., Pad ID: 01 099 Storch, ABR-201209016, Troy Township, Bradford County, Pa.; Consumptive Use of Up to 6.000 mgd; Approval Date: September 25, 2012.

17. Southwestern Energy Production Company, Pad ID: Cooley (Pad 2), ABR-201209017, Orwell Township, Bradford County, Pa.; Consumptive Use of Up to 4.999 mgd; Approval Date: September 25, 2012.

18. Southwestern Energy Production Company, Pad ID: Gypsy Hill-Eastabrook (Pad 5), ABR-201209018, Orwell Township, Bradford County, Pa.; Consumptive Use of Up to 4.999 mgd; Approval Date: September 25, 2012.

19. Southwestern Energy Production Company, Pad ID: Rabago Birk (Pad 10), ABR-201209019, Herrick and Standing Stone Townships, Bradford County, Pa.; Consumptive Use of Up to 4.999 mgd; Approval Date: September 25, 2012.

20. WPX Energy Appalachia, LLC, Pad ID: Wootton East Well Pad, ABR-201209020, Liberty Township, Susquehanna County, Pa.; Consumptive Use of Up to 4.000 mgd; Approval Date: September 25, 2012.

21. Chief Oil & Gas LLC, Pad ID: Romisoukas Drilling Pad, ABR-201209021, Canton Township, Bradford County, Pa.; Consumptive Use of Up to 2.000 mgd; Approval Date: September 25, 2012.

22. WPX Energy Appalachia, LLC, Pad ID: McLallen Well Pad, ABR-201209022, Choconut Township, Susquehanna County, Pa.; Consumptive Use of Up to 4.000 mgd; Approval Date: September 25, 2012.

23. WPX Energy Appalachia, LLC, Pad ID: Mordovancey Well Pad, ABR-201209023, Choconut Township, Susquehanna County, Pa.; Consumptive Use of Up to 4.000 mgd; Approval Date: September 25, 2012.

24. Talisman Energy USA Inc., Pad ID: 02 101 Olson, ABR-201209024, Hamilton Township, Tioga County, Pa.; Consumptive Use of Up to 6.000 mgd; Approval Date: September 27, 2012.

Authority: Pub. L. 91-575, 84 Stat. 1509 et seq., 18 CFR parts 806, 807, and 808.

Dated: October 22, 2012.
Stephanie L. Richardson,
Secretary to the Commission.

[FR Doc. 2012-27110 Filed 11-6-12; 8:45 am]

BILLING CODE 7040-01-P